DEPARTMENT OF TRANSPORTATION

National Highway Traffic Safety Administration

[Docket No. NHTSA-2023-0038]

Initial Decision That Certain Frontal Driver and Passenger Air Bag Inflators Manufactured by ARC Automotive Inc. and Delphi Automotive Systems LLC Contain a Safety Defect; Second Extension of Written Submission Deadline

AGENCY: National Highway Traffic Safety Administration (NHTSA), Department of Transportation (DOT).

ACTION: Second extension of deadline for written submissions in response to agency's initial decision that certain frontal driver and passenger air bag inflators manufactured by ARC Automotive Inc. and Delphi Automotive Systems LLC contain a safety defect.

SUMMARY: The original deadline for the submission of written information in response to the agency's Initial Decision was October 20, 2024. NHTSA previously extended the deadline to December 4, 2023, and is now extending the deadline a second time. The new deadline is December 18, 2023.

DATES: The written submission deadline related to the Initial Decision published on September 8, 2023, at 88 FR 62140, is extended to December 18, 2023.

ADDRESSES: You may submit written submissions to the docket number identified in the heading of this document by any of the following methods:

• Federal eRulemaking Portal: Go to https://www.regulations.gov. Follow the online instructions for submitting comments.

• Mail: Docket Management Facility: U.S. Department of Transportation, 1200 New Jersey Avenue SE, West Building Ground Floor, Room W12-140, Washington, DC 20590-0001.

• Hand Delivery or Courier: 1200 New Jersey Avenue SE, West Building Ground Floor, Room W12-140, between 9 a.m. and 5 p.m. ET, Monday through Friday, except Federal holidays.

• Fax: 202-493-2251.

Instructions: All submissions must include the agency name and docket number. Note that all written submissions received will be posted without change to https://www.regulations.gov, including any personal information provided. Please see the Privacy Act discussion below. We will consider all written submissions received before the close of business on Monday, December 18, 2023.

Docket: For access to the docket to read background documents or written submissions received, go to https://www.regulations.gov at any time or to 1200 New Jersey Avenue SE, West Building Ground Floor, Room W12-140, Washington, DC 20590, between 9 a.m. and 5 p.m., Monday through Friday, except Federal Holidays. Telephone: 202-366-9826.

Privacy Act: In accordance with 49 U.S.C. 30118(b)(1), NHTSA will make a final decision only after providing an opportunity for manufacturers and any interested person to present information, views, and arguments. DOT posts written submissions submitted by manufacturers and interested persons, without edit, including any personal information the submitter provides, to www.regulations.gov, as described in the system of records notice (DOT/ALL-14 Federal Docket Management System (FDMS)), which can be reviewed at www.transportation.gov/privacy.

Confidential Business Information: If you wish to submit any information under a claim of confidentiality, you must submit your request directly to NHTSA's Office of the Chief Counsel. Requests for confidentiality are governed by 49 CFR part 512. NHTSA is currently treating electronic submission as an acceptable method for submitting confidential business information (CBI) to the agency under part 512. If you would like to submit a request for confidential treatment, you may email your submission to Ashley Simpson in the Office of the Chief Counsel at Ashley.Simpson@dot.gov or you may contact her for a secure file transfer link. At this time, you should not send a duplicate hardcopy of your electronic CBI submissions to DOT headquarters. If you claim that any of the information or documents provided to the agency constitute confidential business information within the meaning of 5 U.S.C. 552(b)(4), or are protected from disclosure pursuant to 18 U.S.C. 1905, you must submit supporting information together with the materials that are the subject of the confidentiality request, in accordance with part 512, to the Office of the Chief Counsel. Your request must include a cover letter setting forth the information specified in our confidential business information regulation (49 CFR 512.8) and a certificate, pursuant to § 512.4(b) and part 512, appendix A. In addition, you should submit a copy, from which you have redacted the claimed confidential business information, to the Docket at the address given above.

FOR FURTHER INFORMATION CONTACT: Ashley Simpson, Office of the Chief Counsel, National Highway Traffic Safety Administration, 1200 New Jersey Avenue SE, Washington, DC 20590; (202) 366-8726.

SUPPLEMENTARY INFORMATION: On September 5, 2023, NHTSA issued an Initial Decision That Certain Frontal Driver and Passenger Air Bag Inflators Manufactured by ARC Automotive Inc. and Delphi Automotive Systems LLC Contain a Safety Defect pursuant to 49 U.S.C. 30118(a) and 49 CFR 554.10. 88 FR 62140 (Sept. 8, 2023). More specifically, NHTSA initially determined that certain air bag inflators manufactured by ARC Automotive Inc. (ARC) and Delphi Automotive Systems LLC (Delphi) through January 2018 may rupture when the vehicle's air bag is commanded to deploy, causing metal debris to be forcefully ejected into the passenger compartment of the vehicle, and that these rupturing air bag inflators pose an unreasonable risk of serious injury or death to vehicle occupants. In accordance with 49 U.S.C. 30118(b)(1) and 49 CFR 554.10(c)(4), the Initial Decision provided manufacturers and any interested person an opportunity to present information, views, and arguments in response to the Initial Decision at a public meeting and/or by submitting written information to the Agency. The Initial Decision scheduled the public meeting for October 5, 2023 and set a deadline for written submissions of October 20, 2023. NHTSA previously extended the written submission deadline to December 4, 2023. 88 FR 73069.

To provide additional opportunity for any interested person to present information, views, and arguments in response to the Initial Decision, NHTSA is providing an additional 14 days to the period during which interested persons can provide written submissions. The prior deadline of December 4, 2023 is extended, and written submissions from any interested person are now due on or before December 18, 2023.

Authority: 49 U.S.C. 30118(a), (b); 49 CFR 554.10; delegations of authority at 49 CFR 1.50(a) and 49 CFR 501.8.

Eileen Sullivan,
Associate Administrator for Enforcement.

[FR Doc. 2023-26797 Filed 12-6-23; 8:45 am]

BILLING CODE 4910-59-P